DEPARTMENT OF THE TREASURY

Submission for OMB Review; Comment Request

March 22, 2005.

The Department of Treasury has submitted the following public information collection requirement(s) to OMB for review and clearance under the Paperwork Reduction Act of 1995, Pub. L. 104-13. Copies of the submission(s) may be obtaining by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 28, 2005, to be assured of consideration.

Financial Management Service (FMS)

OMB Number: 1510-0004.

Form Number: FMS 285-A.

Type of Review: Extension.

Title: Schedule of Excess Risks.

Description: Listing of Excess Risks written or assumed by Treasury Certified Companies for compliance with Treasury Regulations to assist in determination of solvency of Certified Companies for the benefit of writing Federal surety bonds.

Respondents: Business or other for-profit.

Estimated Number of Respondents: 289.

Estimated Burden Hours Per Respondent: 20 hours.

Frequency of Response: Quarterly, annually, other (applications).

Estimated Total Reporting Burden: 5,780 hours.

Clearance Officer: Jiovannah L. Diggs, (202) 874-7662, Financial Management Service, Administrative Programs Division, Records and Information Management Program, 3700 East West Highway, Room 144, Hyattsville, MD 20782.

OMB Reviewer: Joseph F. Lackey, Jr., (202) 395-7316, Office of Management and Budget, Room 10235, New Executive Office Building, Washington, DC 20503.

Lois K. Holland,
Treasury PRA Clearance Officer.

[FR Doc. 05-6090 Filed 3-28-05; 8:45 am]

BILLING CODE 4810-35-M